DEPARTMENT OF COMMERCE

International Trade Administration

[A-570-970]

Multilayered Wood Flooring From the People's Republic of China: Notice of Court Decision Not in Harmony With the Results of Antidumping Administrative Review; Notice of Amended Final Results

AGENCY: Enforcement and Compliance, International Trade Administration, Department of Commerce.

SUMMARY: On September 15, 2025, the U.S. Court of International Trade (CIT) issued its final judgment in Jiangsu Senmao Bamboo and Wood Industry Co. et al. v. United States, Court No. 22-00190, sustaining the U.S. Department of Commerce's (Commerce) third remand results pertaining to the administrative review of antidumping duty (AD) order on multilayered wood flooring (MLWF) from the People's Republic of China (China) covering the period 12/1/2019 through 11/30/2020. Commerce is notifying the public that the CIT's final judgment is not in harmony with Commerce's final results of the administrative review, and that Commerce is amending the final results with respect to the dumping margin assigned to Jiangsu Senmao Bamboo and Wood Industry Co., Ltd. (Jiangsu Senmao).

DATES: Applicable September 25, 2025.

FOR FURTHER INFORMATION CONTACT: Faris Montgomery, AD/CVD Operations, Office VIII, Enforcement and Compliance, International Trade Administration, U.S. Department of Commerce, 1401 Constitution Avenue NW, Washington, DC 20230; telephone: (202) 482-1537.

SUPPLEMENTARY INFORMATION:

Background

On July 1, 2022, Commerce published its Final Results in the 2019-2020 antidumping administrative review of MLWF from China.¹ Commerce calculated a weighted average dumping margin of 39.27 percent, using Malaysian import data as surrogate values (SVs) for certain types of logs, using Brazilian data for the remainder of Jiangsu Semao's reported factors of production, and using adjusted Brazilian import data as the basis for the SV for plywood because Commerce determined the Spanish import data in the dataset was erroneous.

¹ See Multilayered Wood Flooring from the People's Republic of China: Final Results of Antidumping Duty Administrative Review and Final Determination of No Shipments; 2019-2020, 87 FR 39464 (July 1, 2022) (Final Results), and accompanying Issues and Decision Memorandum (IDM) at Comment 5.

Jiangsu Senmao et al. challenged Commerce's Final Results. On August 25, 2023, the CIT remanded the Final Results to Commerce, stating that: (1) Commerce failed to provide substantial evidence to support its determination that Brazil's SVs were sufficiently unreliable to warrant a departure from the primary surrogate country practice; (2) Commerce failed to justify its departure from its normal practice by using two separate SVs instead of one; and (3) Commerce failed to include on the record the document which it relied on to adjust the Brazilian plywood SVs.²

² See Jiangsu Senmao Bamboo and Wood Industry Co., Ltd. et al. v. United States, Court No. 22-00190, Slip Op. 23-126 (CIT August 25, 2023).

In its first remand redetermination, issued in October 2023, Commerce reconsidered the SVs used for certain inputs and recalculated Jiangsu Senmao's margin. Commerce further provided the documentation requested by the Court and additional explanation for Commerce's determination to revise the Brazilian SV for plywood.³ The CIT remanded Commerce's decision a second time, finding that Commerce failed to support the legality of selecting multiple surrogate countries and the adjustment to plywood SVs was not supported by substantial evidence.⁴

³ See Final Results of Redetermination Pursuant to Remand Order, Jiangsu Senmao Bamboo and Wood Industry Co., Ltd. et al. v. United States, Court No. 22-00190, Slip Op. 23-126, dated August 25, 2023 (First Remand Redetermination), available at https://access.trade.gov/public/FinalRemandRedetermination.aspx.

⁴ See Jiangsu Senmao Bamboo and Wood Industry Co., Ltd. et al. v. United States, Court No. 22-00190, Slip Op. 24-47 (CIT April 19, 2024).

In its second remand redetermination, issued in June 2024, Commerce addressed the CIT's ruling by further explaining record evidence demonstrating that two separate countries' SV data were viable and justifiable.⁵ Additionally, Commerce clarified that its adjustment to the SV data for plywood did not impact the overall calculation.⁶ The CIT remanded Commerce for a third time, stating that Commerce must obtain accurate data regarding the correct SVs for plywood.⁷ The CIT additionally sustained Commerce regarding Commerce's selection of certain SVs, explaining that Commerce correctly articulated its analysis under its statutory obligation to consider the “best available information” when determining surrogate inputs. In this case, “best available information” was applied to justify the need to use both countries' SVs.⁸

⁵ See Final Results of Redetermination Pursuant to Remand Order, Jiangsu Senmao Bamboo and Wood Industry Co., Ltd. et al v. United States, Court No. 22-00190, Slip Op. 24-47, dated April 19, 2024, (Second Remand Redetermination), available at https://access.trade.gov/public/FinalRemandRedetermination.aspx.

⁶ Id.

⁷ See Jiangsu Senmao Bamboo and Wood Industry Co., Ltd. et al. v. United States, Court No. 22-00190, Slip Op. 25-16 (CIT February 18, 2025).

⁸ Id.

In its third remand redetermination, issued in May 2025, Commerce reconsidered its determination on SVs for plywood, replacing Brazilian data with Malaysian data for plywood. As a result of this analysis, Commerce revised Jiangsu Senmao's weighted-average dumping margin to 14.35 percent.⁹ On September 15, 2025, the CIT sustained Commerce's third remand redetermination.¹⁰

⁹ See Final Results of Redetermination Pursuant to Remand Order, Jiangsu Senmao Bamboo and Wood Industry Co., Ltd. et al. v. United States, Court No. 22-00190, Slip Op. 25-16, dated May 9, 2025 (Third Remand Redetermination), available at https://access.trade.gov/public/FinalRemandRedetermination.aspx.

¹⁰ See Jiangsu Senmao Bamboo and Wood Industry Co., Ltd. et al. v. United States, Court No. 22-00190, Slip Op. 25-122 (CIT September 15, 2025).

Timken Notice

In its decision in Timken,¹¹ as clarified by Diamond Sawblades,¹² the U.S. Court of Appeals for the Federal Circuit held that, pursuant to section 516A(c) and (e) of the Tariff Act of 1930, as amended (the Act), Commerce must publish a notice of court decision that is not “in harmony” with a Commerce determination and must suspend liquidation of entries pending a “conclusive” court decision. The CIT's September 15, 2025, judgment constitutes a final decision of the CIT that is not in harmony with Commerce's Final Results. Thus, this notice is published in fulfillment of the publication requirements of Timken.

¹¹ See Timken Co. v. United States, 893 F.2d 337 (Fed. Cir. 1990) (Timken).

¹² See Diamond Sawblades Manufacturers Coalition v. United States, 626 F.3d 1374 (Fed. Cir. 2010) (Diamond Sawblades).

Amended Final Results

Because there is now a final court judgment, Commerce is amending its Final Results with respect to Jiangsu Senmao as follows:

Exporter | Weighted-average dumping margin (percent)
Jiangsu Senmao Bamboo and Wood Industry Co., Ltd | 14.35

Cash Deposit Requirements

Because Jiangsu Senmao has a superseding cash deposit rate, i.e., there have been final results published in a subsequent administrative review, we will not issue revised cash deposit instructions to U.S. Customs and Border Protection (CBP). This notice will not affect the current cash deposit rate.

Liquidation of Suspended Entries

At this time, Commerce remains enjoined by CIT order from liquidating entries that were exported by Jiangsu Senmao, and were entered, or withdrawn from warehouse, for consumption during the period from 12/01/2019 through 11/30/2020. These entries will remain enjoined pursuant to the terms of the injunction during the pendency of any appeals process.

In the event the CIT's ruling is not appealed, or, if appealed, upheld by a final and conclusive court decision, Commerce intends to instruct CBP to assess antidumping duties on unliquidated entries of subject merchandise exported by Jiangu Senmao in accordance with 19 CFR 351.212(b). We will instruct CBP to assess antidumping duties on all appropriate entries covered by this review when the importer-specific ad valorem assessment rate is not zero or de minimis. Where an import-specific ad valorem assessment rate is zero or de minimis,¹³ we will instruct CBP to liquidate the appropriate entries without regard to antidumping duties.

¹³ See 19 CFR 351.106(c)(2).

Notification to Interested Parties

This notice is issued and published in accordance with sections 516A(c) and (e) and 777(i)(1) of the Act.

Dated: September 25, 2025.
Christopher Abbott,
Deputy Assistant Secretary for Policy and Negotiations, performing the non-exclusive functions and duties of the Assistant Secretary for Enforcement and Compliance.

[FR Doc. 2025-19030 Filed 9-29-25; 8:45 am]

BILLING CODE 3510-DS-P